FEDERAL MARITIME COMMISSION

Ocean Transportation Intermediary License Applicants

The Commission gives notice that the following applicants have filed an application for an Ocean Transportation Intermediary (OTI) license as a Non-Vessel-Operating Common Carrier (NVO) and/or Ocean Freight Forwarder (OFF) pursuant to section 19 of the Shipping Act of 1984 (46 U.S.C. 40101). Notice is also given of the filing of applications to amend an existing OTI license or the Qualifying Individual (QI) for a licensee.

Interested persons may contact the Office of Ocean Transportation Intermediaries, Federal Maritime Commission, Washington, DC 20573, by telephone at (202) 523-5843 or by email at OTI@fmc.gov.

Amarine Shipping, Inc. (NVO), 425 W. Apra Street, Compton, CA 90220, Officer: Myung Shin Chang, CEO (QI), Application Type: New NVO License.

Bar Global Logistics, Inc. (NVO), 1670 Alvardo Street, Suite 1, San Leandro, CA 94577, Officers: Lilibeth O. Arroyo, President (QI), Rafael H. Arroyo, Vice President, Application Type: New NVO License.

Beagle Shipping Inc. (NVO & OFF), 2801 NW 7th Avenue, Suite 107, Miami, FL 33122, Officers: Ricardo Tovar, President (QI), Miguel Tovar, Vice President, Application Type: QI Change.

BJJ Enterprise LLC (OFF), 121 North Meridian Street, Suite 553, Jasonville, IN 47438, Officer: Daouda A. Lawani, Member (QI), Application Type: New OFF License.

CNX America Corp. dba Hercules Int'l Transportation (NVO & OFF), 375 W. Victoria Street, Compton, CA 90220, Officer: Wade L. Chuang, President (QI), Application Type: New NVO & OFF License.

Fast Track Worldwide Logistics Inc. (NVO & OFF), 10505 NW 112th Avenue, Suite 18, Miami, FL 33178, Officers: Sonia C. Aquado, Manager (QI), Miguel Otaola, President, Application Type: QI Change.

Ford Global Enterprises Ltd. Liability Co. dba The Vision Logistics Group (NVO & OFF), 2401 Waterman Blvd., Suite A4-319, Fairfield, CA 94534, Officers: Matthew S. Ford, President (QI), Barbara A. Walthall-Ford, Secretary, Application Type: New NVO & OFF License.

Hitachi Transport System (America), Ltd. (NVO & OFF), 21061 S. Western Avenue, Suite 300, Torrance, CA 90501-1122, Officers: Mary M. Crockett, Assistant to the President (QI), Masataka Kashiwa, President, Application Type: QI Change.

JTL Logistics USA, Inc. (NVO), 6788 Morehouse Street, Chino, CA 91710, Officer: Jingyan (Joy) Tang, President (QI), Application Type: New NVO License.

King City Forwarding USA, Inc. (NVO & OFF), 216 Fort Hill Avenue, Pittsfield, MA 01201, Officers: Michael Hilburn, President (QI), Lloyd Lovett, CEO, Application Type: New NVO & OFF License.

KWIC Shipping LLC (NVO), 1854 Pampas Circle, Bolingbrook, IL 60490, Officers: Kimberly A. Whisler Wagner, Member Manager (QI), Kara M. Norkus, Member Manager, Application Type: New NVO License.

LV Shipping (USA) Inc. (NVO & OFF), 19051 Kenswick Drive, Suite 190, Humble, TX 77338, Officers: Keri Gullory, Chief Officer of Operations (QI), Paul Wilson, President, Application Type: QI Change.

Miami Shipping Cargo Inc. (NVO), 2039 NW 23rd Avenue, Miami, FL 33142, Officers: Rafael Rosario, President (QI), Esperanza Rosario, Secretary, Application Type: New NVO License.

Nhi Luu dba Galleon Technologies (NVO), 14852 Bridal Trail Circle, Eastvale, CA 92880, Officer: Nhi Luu, Sole Proprietor (QI), Application Type: New NVO License.

Norgistics North America, Inc. (NVO & OFF), 99 Wood Avenue South, 9th Floor, Iselin, NJ 08830, Officers: Richard Kenyon, President (QI), Fernando Valenzuela, Global President, Application Type: QI Change.

OM Global Shipping Lines Inc (NVO), 33300 Mission Blvd., Suite 35, Union City, CA 94587, Officer: Dharmendra Kanjani, President (QI), Application Type: New NVO License.

Piton Logistics, Inc (NVO), 1837 South State Road 7, Fort Lauderdale, FL 33317, Officers: Marlene Sookram-Sirju, President (QI), Narine Ramcharitar, Treasurer, Application Type: New NVO License.

SDC International Inc (NVO), 14558 Ryamer Street, Van Nuys, CA 91405, Officer: Kfir Cohen, President (QI), Application Type: QI Change.

Silver Brilliant Logistic Inc. (NVO), 15456 Valley Boulevard, City of Industry, CA 91746, Officers: Billy K. Chan, Secretary (QI), Linh P. Vien, CEO (QI), Application Type: Name Change to Silver Brilliant Logistics, Inc. & QI Change.

Unit International, Inc. (OFF), 644 Cesery Blvd., Suite 200, Jacksonville, FL 32211, Officers: Sydney R. Purvis, Jr., President (QI), Warren P. Powers, Chairman, Application Type: QI Change.

Dated: November 8, 2013.
By the Commission.
Karen V. Gregory,
Secretary.

[FR Doc. 2013-27254 Filed 11-13-13; 8:45 am]

BILLING CODE 6730-01-P